DEPARTMENT OF COMMERCE

National Oceanic and Atmospheric Administration

RIN 0648-XY53

Federal Aquatic Nuisance Species Research Risk Analysis Protocol

AGENCY: National Marine Fisheries Service (NMFS), National Oceanic and Atmospheric Administration (NOAA), Commerce

ACTION: Notice of availability of draft revised research protocol; request for comments.

SUMMARY: The National Oceanic and Atmospheric Administration (NOAA) announces the availability of the draft revised Federal Aquatic Nuisance Species Research Risk Analysis Protocol (Protocol), developed by the Research Protocol Committee, a committee of the Aquatic Nuisance Species Task Force (ANSTF). The Protocol is available for public review and comment.

DATES: Comments must be received within 45 days after August 31, 2010.

ADDRESSES: Electronic copies of the draft revised Protocol are available on the ANSTF website, http://anstaskforce.gov/documents.php. To obtain a hard copy of the draft revised Protocol or to submit comments, see Document Availability and Public Comment, respectively, under SUPPLEMENTARY INFORMATION.

FOR FURTHER INFORMATION CONTACT: Margaret M. (Peg) Brady, NOAA Policy Liaison to the Aquatic Nuisance Species Task Force. 1315 East West Highway, SSMC 3, Rm. 15531 Silver Spring, MD 20910 Phone: 301-713-0174; Email: Peg.Brady@noaa.gov

SUPPLEMENTARY INFORMATION:

Introduction

The Aquatic Nuisance Species Task Force (ANSTF) is an intergovernmental organization dedicated to preventing and controlling aquatic nuisance species, and implementing the Nonindigenous Aquatic Nuisance Prevention and Control Act. The National Oceanic and Atmospheric Administration and U. S. Fish and Wildlife Service serve as co-chairs of the ANSTF. The ANSTF developed a research protocol as is required by the Nonindigenous Aquatic Nuisance Prevention and Control Act of 1990 (NANPCA, Public Law 101-646, 104 STAT. 4671, 16 U.S.C. 4701-4741), as amended by the National Invasive Species Act, 1996. Section 1202(f)(2) of NANPCA directs the ANSTF to establish a protocol “to ensure that research activities carried out under [NANPCA] do not result in the introduction of aquatic nuisance species to waters of the United States.”

Responsibility for actual use of this Protocol is specified in section (f)(3) of the NANPCA: “The Task Force shall allocate funds authorized under this Act for competitive research grants to study all aspects of aquatic nuisance species, which shall be administered through the National Sea Grant College Program and the Cooperative Fishery and Wildlife Research Units. Grants shall be conditioned to ensure that any recipient of funds follows the protocol established under paragraph (2) of this subsection.”

Throughout this document both the descriptors “nonindigenous” and/or “nuisance” are used when referring to aquatic species that are the target of this risk analysis. Language used in the NANPCA differentiates between a nonindigenous species and a nuisance species, with a “nonindigenous” label being solely based on the historic range of the species, while a “nuisance” designation is based on a species being both nonindigenous and potentially harmful (“threatens the diversity or abundance of native species or the ecological stability of infested waters, or commercial, agricultural, aquacultural or recreational activities dependent on such waters”). The ANSTF Research Committee adopted a precautionary approach by targeting this risk analysis to all aquatic nonindigenous species research, regardless of the “nuisance” designation. The intent of the procedures outlined herein is to minimize to the extent practicable the risk of release and spread of aquatic nonindigenous species into areas they do not yet inhabit, since any nonindigenous species may become a nuisance species. Not only is it often not possible to be sure that a species won't become a nuisance (as defined) in the future, the possession and/or release of nonindigenous species may be illegal under various Federal, State, or local laws, which may or may not differentiate between nonindigenous and nuisance species.

Background

When finalized, this document (“the Protocol”) would replace the previously established “Protocol for Evaluating Research Proposals Concerning Aquatic Nonindigenous Species,” adopted in draft form in 1992 and finalized and published by the ANSTF in July 1994. The 1994 protocol applies only to research involving aquatic nonindigenous species (ANS) and is designed to reduce the risk that research activities may cause introduction or spread of such aquatic species. Other potential means of introduction, such as bait movement, aquaria disposal, ballast water discharge, movement of recreational boats, movement of fishing gear, and horticultural sales, are not addressed in the 1994 protocol.

In 2008 the ANSTF requested the Research Committee (a Committee of the ANSTF) to evaluate and recommend revisions to the 1994 protocol, as needed. According to the Society for Risk Analysis (SRA, http://www.sra.org), the elements or components of a risk analysis include risk assessment, risk characterization, risk communication, risk management, and policy relating to risk. This revised Protocol incorporates three of those elements it requires a risk assessment (Part I) and then, if needed, establishment and implementation of a risk management plan (Part II), with the combined results communicated to the funding agency as part of the proposal and funding process. Therefore, this revised Protocol is renamed “Federal Aquatic Nuisance Species Research Risk Analysis Protocol.” The draft was approved by the ANSTF on November 5, 2009; distribution of the document for public comment is the final step for the ANSTF to adopt the Protocol.

This Protocol supplements, but does not replace, other existing Federal guidelines established to control activities with specific major classes of organisms. This document does not eliminate or in any way affect other applicable legal requirements, including the National Environmental Policy Act [NEPA, 1970 (42 U.S.C. 4321 et seq.)].

The Protocol encourages the incorporation of a Hazard Analysis and Critical Control Point (HACCP) approach for prevention planning within research activities. Information about the use of HACCP is available at http://www.seagrant.umn.edu/ais/haccp. A web site detailing the application of HACCP to natural resource pathways, plus a link to download a HACCP wizard that helps create HACCP plans, can be found at http://www.haccp-nrm.org.

Document Availability

You may obtain copies of the Protocol by any one of the following methods:

• Internet: http://anstaskforce.gov/documents.php

• Write: Susan Pasko, National Oceanic and Atmospheric Administration. 1315 East West Highway, SSMC 3, Rm. 15531 Silver Spring, MD 20910; Telephone: (301) 713-0174 x 165; Email: Susan.Pasko@noaa.gov

Request for Comments

Comments on the draft Protocol are invited. The ANSTF will review all submitted comments and make revisions, as appropriate, to the Protocol before going final. You may submit a written comment by any one of the following methods:

• Email: Susan.Pasko@noaa.gov

• Mail or hand-delivery: Susan Pasko, National Oceanic and Atmospheric Administration. 1315 East West Highway, SSMC 3, Rm. 15531 Silver Spring, MD 20910

• Fax: (301) 713-1594

Before including your address, phone number, e-mail address, or other personal identifying information in your comment, you should be aware that your entire comment including your personal identifying information may be made publicly available at any time. While you can ask us in your comment to withhold your personal identifying information from public review, we cannot guarantee that we will be able to do so.

Dated: August 24, 2010.
Patricia A. Montanio,
Director, Office of Habitat Conservation, National Marine Fisheries Service.

[FR Doc. 2010-21712 Filed 8-30-10; 8:45 am]

BILLING CODE 3510-22-S